DEPARTMENT OF THE INTERIOR

National Park Service

[NPS-WASO-NAGPRA-NPS0029818; PPWOCRADN0-PCU00RP14.R50000]

Notice of Inventory Completion: Auburn University, Auburn, AL

AGENCY: National Park Service, Interior.

ACTION: Notice.

SUMMARY: Auburn University has completed an inventory of human remains and associated funerary objects in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Auburn University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Auburn University at the address in this notice by April 2, 2020.

ADDRESSES: Savannah Newell, Auburn University, 7030 Haley Center, Auburn, AL 36849, telephone (334) 844-5008, email sgn0010@auburn.edu.

SUPPLEMENTARY INFORMATION: Notice is here given in accordance with the Native American Graves Protection and Repatriation Act (NAGPRA), 25 U.S.C. 3003, of the completion of an inventory of human remains and associated funerary objects under the control of Auburn University, Auburn, AL. The human remains and associated funerary objects were removed from the Abercrombie Site, Russell County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Auburn University professional staff in consultation with representatives of the Kialegee Tribal Town; Miccosukee Tribe of Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; and Thlopthlocco Tribal Town (hereafter referred to as “The Tribes”).

History and Description of the Remains

Sometime during the early 1960s, human remains representing, at minimum, one individual were removed from the Abercrombie Site in Russell County, AL. This individual, represented by a mandible, is estimated to be around 5 years old based on dental development. While specifics regarding the excavation of the cultural items listed in this notice are not fully known, the items likely derive from an excavation conducted during the 1960s by the Alabama Archaeological Society, and were transferred to Dr. John Cottier at Auburn University. No known individuals were identified. The three associated funerary objects are three vessels.

Abercrombie (1-Ru-61), originally recorded by Wesley Hurt, is a large site along the Chattahoochee River and likely around the location of Coweta. The three vessels in this notice were listed as Ru°1, the original number given by Wesley Hurt to the mound at Abercrombie. Included with them is a picture of a burial showing the human remains of a child. As best as can be determined, based on age assessments, this burial yielded the isolated mandible listed in this notice. Abercrombie chronology includes a Bull Creek Phase (representing a late Mississippian period) and an Abercrombie Phase (ca. A.D. 1550-1650), as well as 17th century occupation (based on European goods present at the site). Historically, this area was occupied by Hitchiti speakers and Lower Creek during the 17th century. These groups are ancestral to the present-day Creek and Seminole Indian Tribes.

Determinations Made by Auburn University

Officials of Auburn University have determined that:

• Pursuant to 25 U.S.C. 3001(9), the human remains described in this notice represent the physical remains of one individual of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Savannah Newell, Auburn University, 7030 Haley Center, Auburn, AL 36849, telephone (334) 844-5008, email sgn0010@auburn.edu, by April 2, 2020. After that date, if no additional requestors have come forward, transfer of control of the human remains and associated funerary objects to The Tribes may proceed.

Auburn University is responsible for notifying The Tribes that this notice has been published.

Dated: February 10, 2020.
Melanie O'Brien,
Manager, National NAGPRA Program.

[FR Doc. 2020-04325 Filed 3-2-20; 8:45 am]

BILLING CODE 4312-52-P